DEPARTMENT OF THE INTERIOR

U.S. Geological Survey

Agency Information Collection Activity; Mineral Resources External Research Program (MRERP)

AGENCY: U.S. Geological Survey (USGS), Interior.

ACTION: Notice of a new information collection.

SUMMARY: To comply with the Paperwork Reduction Act of 1995 (PRA), we are notifying the public that we have submitted to OMB a new information collection request (ICR) for approval of the paperwork requirements for the Mineral Resources Program's (MRP) Mineral Resources External Research Program (MRERP). To submit a proposal for the MRERP, a project narrative must be completed and submitted via http://Grants.gov. For multi-year projects, an annual progress report must be completed for all projects; a final technical report is required at the end of the project period. This notice provides the public an opportunity to comment on the paperwork burden of these project narrative and report requirements. The narrative and report guidance is available at http://www.usgs.gov/contracts/Minerals/index.html.

DATES: You must submit comments on or before May 8, 2009.

ADDRESSES: Please submit comments on this information collection directly to the Office of Management and Budget (OMB) Office of Information and Regulatory Affairs, Attention: Desk Officer for the Department of the Interior via e-mail OIRA_DOCKET@omb.eop.gov; or fax (202) 395-5806; and identify your submission as 1028-NEW. Please also submit a copy of your comments to Phadrea Ponds, USGS Information Collection Clearance Officer, 2150-C Center Avenue, Fort Collins, CO 80525 (mail); (970) 226-9230 (fax); or pponds@usgs.gov (e-mail). Please reference Information Collection 1028-NEW, MRERP in the subject line.

FOR FURTHER INFORMATION CONTACT: To request additional information about this ICR, contact Jeff L. Doebrich by mail at U.S. Geological Survey, 913 National Center, Sunrise Valley Drive, Reston, VA 20192 or by telephone at 703-648-6103.

SUPPLEMENTARY INFORMATION:

I. Abstract

Through the MRERP, the MRP of the USGS offers an annual competitive grant and/or cooperative agreement opportunity to individuals, universities, State agencies, Tribal governments or organizations, and industry or other private sector organizations. Applicants must have the ability to conduct research in topics related to non-fuel mineral resources that meet the goals of the MRP. We will consider all research-based proposals that address one of the MRP's long-term goals. The long-term goals of the MRP, as described in its Five-Year Plan for FY 2006-2010 (http://minerals.usgs.gov/plan/2006-2010/2006-2010_plan.html), are to ensure availability of: (1) Up-to-date quantitative assessments of potential for undiscovered mineral deposits, (2) up-to-date geoenvironmental assessments of priority Federal lands, (3) reliable geologic, geochemical, geophysical, and mineral locality data for the United States, and (4) long-term data sets describing mineral production and consumption. Annual research priorities are provided as guidance for applicants to consider when submitting proposals. Annual research priorities are determined by USGS MRP management. Since the initiation of MRERP 2004, we have awarded more than $1.8 million to 30 different research projects across the country.

II. Data

OMB Control Number: None: This is an existing collection without an OMB control number.

Title: Mineral Resources External Research Program (MRERP).

Respondent Obligation: Required to obtain or retain benefits.

Frequency of Collection: Annually.

Estimated Number and Description of Respondents: 35. Individuals, universities, State agencies, Tribal governments or organizations, and industry or other private sector organizations.

Estimated Number of Annual Responses: 40 (35 applications and 5 reports per year).

Estimated Annual Reporting and Recordkeeping “Hour” Burden: 3,060. We expect to receive approximately 35 applications, each taking 81 hours to complete. This includes the time for project conception and development, proposal writing and reviewing, and submitting project narrative through Grants.gov, (2,835 burden hours). We anticipate awarding an average of 5 grants per year. Each grant recipient must complete and submit a final report. We estimate 45 hours to complete a report (totaling 225 hours).

Estimated Reporting and Recordkeeping “Non-Hour Cost” Burden: There are no “non-hour cost” burdens associated with this collection of information.

III. Request for Comments

We invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. We will include or summarize each comment in our request to OMB to approve this ICR. Before including your address, phone number, e-mail address or other personal identifying information in your comment, you should be aware that your entire comment including your personal identifying information, may be made publicly available at any time. While you can ask us in your comment to withhold your personal identifying information from public review, we cannot guarantee that we will be able to do so.

Dated: April 2, 2009.
Kathleen Johnson,
Program Coordinator, Mineral Resources External Research Program.

[FR Doc. E9-7924 Filed 4-7-09; 8:45 am]

BILLING CODE 4311-AM-P